DEPARTMENT OF THE INTERIOR

Bureau of Land Management

43 CFR Part 3500

[Docket No. BLM-2025-0004; PO #4820000251; Order #02412-014-004-047181.0]

RIN 1004-AF18

Rescission of Regulations Regarding Leasing of Solid Minerals Other Than Coal and Oil Shale

AGENCY: Bureau of Land Management, Interior.

ACTION: Direct final rule; request for comments.

SUMMARY: This direct final rule rescinds portions of the Bureau of Land Management's (BLM) regulations that address the Leasing of Solid Minerals Other Than Coal and Oil Shale—Areas Available for Leasing and Hardrock Mineral Development Contracts; Processing and Milling Arrangements.

DATES: The final rule is effective on September 15, 2025, unless significant adverse comments are received by August 18, 2025. If significant adverse comments are received, notice will be published in the Federal Register before the effective date either withdrawing the rule or issuing a new final rule that responds to significant adverse comments.

Information Collection Requirements: This final rule rescinds and revises information-collection requirements that must be approved by the Office of Management and Budget (OMB). If you wish to comment on the changed information-collection requirements, please note that those comments should be sent directly to OMB. Comments should be received by August 18, 2025.

ADDRESSES: You may submit comments by one of the following methods:

• Federal eRulemaking Portal: https://www.regulations.gov. In the Search box, enter the Docket Number “BLM-2025-0004” and click the “Search” button. Follow the instructions at this website.

• Mail, Personal, or Messenger Delivery: U.S. Department of the Interior, Director (630), Bureau of Land Management, 1849 C St. NW, Room 5646, Washington, DC 20240, Attention: 1004-AF18.

For Comments on Information-Collection Activities: Written comments and suggestions on the information-collection requirements should be submitted by the date specified above in DATES to www.reginfo.gov/public/do/PRAMain. Find this specific information-collection by selecting “Currently under Review—Open for Public Comments” or by using the search function.

FOR FURTHER INFORMATION CONTACT: Sabry Hanna, Solid Leasable Other Than Coal Program Lead, telephone: 571-458-6644; email: shanna@blm.gov. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0004 on www.regulations.gov.

SUPPLEMENTARY INFORMATION: The Federal regulations governing the leasing of solid minerals other than coal and oil shale are contained in 43 CFR part 3500. These regulations govern the issuance and management of exploration licenses, prospecting permits and leases for minerals, including phosphate, sodium, potassium, sulphur, gilsonite, asphalt, and hardrock minerals.

Upon reviewing these regulations, the Department of the Interior (Department) has determined that paragraph (f) in a table at 43 CFR 3503.37 should be rescinded to remove the regulatory language setting a maximum acreage of hardrock permits and leases in any one State because that acreage limitation for hardrock leases and prospecting permits is not mandated by statute and is therefore unnecessary.

In addition, 43 CFR subpart 3517, consisting of §§ 3517.10 through 3517.16, should be rescinded in its entirety because the purpose of those regulations is to provide an exemption for the acreage limitation for hardrock mineral permits and leases. With the rescinding of the language related to statewide acreage limitations for hardrock permits and leases in 43 CFR 3503.37(f), the regulations in 43 CFR subpart 3517 are unnecessary and obsolete.

The Department has determined that these reasons justify rescission of the language regarding statewide acreage limitations for hardrock permits and leases in 43 CFR 3503.37(f) and the rescission of 43 CFR subpart 3517. The Department has no interest in maintaining regulations that are unnecessary and obsolete.

The Department is issuing this rule as a direct final rule. Although the Administrative Procedure Act (APA, 5 U.S.C. 551-559) generally requires agencies to engage in notice and comment rulemaking, section 553 of the APA provides an exception when the agency “for good cause finds” that notice and comment are “impracticable, unnecessary, or contrary to the public interest.” Id. section 553(b)(B). The Department has determined that notice and comment are unnecessary because this rule is noncontroversial; of a minor, technical nature; involves little agency discretion; and is unlikely to receive any significant adverse comments. Significant adverse comments are those that oppose the rescission of the rule and raise, alone or in combination, (1) reasons why the rescission of the rule is inappropriate, including challenges to the rescission's underlying premise; or (2) serious unintended consequences of the rescission. A comment recommending an addition to the rule will not be considered significant and adverse unless the comment explains how this direct final rule would be ineffective without the addition.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this direct final rule, the RFA does not apply.

Congressional Review Act

This rule is not a major rule under the Congressional Review Act, 5 U.S.C. 804(2). Specifically, the direct final rule: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely revises the Federal regulations to remove an obsolete provision that is no longer used. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule rescinds an obsolete regulatory provision; therefore, the rule will not result in private property being taken for public use without just compensation. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This direct final rule complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department of the Interior strives to strengthen its government-to-government relationship with Indian tribes through a commitment to consultation with Tribes and recognition of their right to self-governance and Tribal sovereignty. The Department evaluated this direct final rule under E.O. 13175 and the Department's consultation policies and determined that it has no substantial, direct effects on federally recognized Indian tribes and that consultation under the Department's Tribal consultation policies is not required. The rule merely revises the Federal regulations to remove unnecessary regulatory language.

Paperwork Reduction Act

The Paperwork Reduction Act of 1995 (PRA) (44 U.S.C. 3501-3521) generally provides that an agency may not conduct or sponsor and, not withstanding any other provision of law, a person is not required to respond to a collection of information, unless it displays a currently valid OMB control number. Collections of information include any request or requirement to obtain, maintain, retain, or report information to an agency, or disclose information to a third party or to the public (44 U.S.C. 3502(3) and 5 CFR 1320.3(c)).

OMB previously approved the information-collection requirements contained in the existing regulations and assigned OMB control number 1004-0121. This final rule does not impose any new information-collection requirements as defined by the PRA. However, the rescission of a portion of paragraph (f) of 43 CFR 3503.37 43 CFR subpart 3517, would remove an information-collection requirement for applicants to provide information pertaining maximum acreage of hardrock leases and permits. This rescission is not expected to change the burden for lease and permit applicants. Additionally, the final rule rescinds of sections 3517.10 through 3517.16 eliminating the information collection contained in 3517.15 titled, “Application for Approval of a Hardrock Mineral Development Contract or Processing or Milling Arrangement” as contained in OMB control number 1004-0121. This rescission will result in a burden reduction of −1 annual response, −20 annual burden hours, and −$40 annual non-hour burdens.

The resulting new estimated total burdens for OMB Control Number 1004-0121 are provided below, along with a summary of the information collections under this OMB control number.

Title of Collection: Leasing of Solid Minerals Other Than Coal and Oil Shale (43 CFR 3500-3590).

OMB Control Number: 1004-0121.

Form Numbers: BLM Form 3504-001; BLM Form 3504-003; BLM Form 3504-004; BLM Form 3510-001; BLM Form 3510-002; and BLM Form 3520-007.

Type of Review: Revision of a currently approved collection.

Respondents/Affected Public: Holders of Federal leases of solid minerals other than coal and oil shale.

Total Estimated Number of Annual Respondents: 170.

Total Estimated Number of Annual Responses: 505.

Estimated Completion Time per Response: Varies from 1 hour to 400 hours, depending on activity.

Total Estimated Number of Annual Burden Hours: 27,236.

Respondent's Obligation: Required to obtain or retain a benefit.

Frequency of Collection: On occasion.

Total Estimated Annual Nonhour Burden Cost: $2,051,650.

The information collection request that has been submitted to OMB for this final rule is available at www.reginfo.gov/public/do/PRAMain. Find this information collection by selecting “Currently under Review—Open for Public Comments” or by using the search function. If you want to comment on the information-collection requirements of this rule, please send your comments and suggestions on this information-collection by the date indicated in the DATES and ADDRESSES sections as previously described.

National Environmental Policy Act

This direct final rule does not constitute a major Federal action significantly affecting the quality of the human environment. A detailed statement under the National Environmental Policy Act (NEPA, 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This direct final rule is not a significant energy action as defined in E.O. 13211. Therefore, a Statement of Energy Effects is not required.

List of Subjects in 43 CFR Part 3500

Government contracts, Hydrocarbons, Mineral royalties, Mines, Phosphate, Potassium, Public lands—mineral resources, Reporting and recordkeeping requirements, Sodium, Sulphur, Surety bonds.

Adam G. Suess,
Acting Assistant Secretary, Land and Minerals Management.

For the reasons set out in the preamble, the Bureau of Land Management amends 43 CFR part 3500 as follows:

PART 3500—LEASING OF SOLID MINERALS OTHER THAN COAL AND OIL SHALE

1. The authority citation for part 3500 continues to read as follows:

Authority: 5 U.S.C. 552; 30 U.S.C. 189, 192c, and 209; 43 U.S.C. 1701 et seq.; and sec. 402, Reorganization Plan No. 3 of 1946 (5 U.S.C. appendix).

2. Section 3503.37 is amended by revising paragraph (f) to read as follows:

§ 3503.37 Is there a limit to the acreage of lands I can hold under permits and leases?

* * * * *

Commodity | Maximum acreage for a permit or lease | Maximum acreage of permits and leases in any one State | Maximum acreage in permits and leases nationwide
* * * * * * *
(f) Hardrock Minerals | 2,560 | None | None.
* * * * * * *

Subpart 3517—[Removed]

3. Remove subpart 3517.

[FR Doc. 2025-13403 Filed 7-16-25; 8:45 am]

BILLING CODE 4331-29-P